FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (https://www.fmc.gov) or by contacting the Office of Agreements at (202) 523-5793 or tradeanalysis@fmc.gov.

Agreement No.: 201364-001.

Agreement Name: Agreement Between the City of Los Angeles, the City of Long Beach, PortCheck, LLC, and Marine Terminal Operators.

Parties: APM Terminals Pacific LLC; City of Los Angeles; Everport Terminal Services Inc.; International Transportation Service, Inc.; LBCT LLC; LONG BEACH, PORT OF; Pacific Maritime Services, L.L.C.; SSA Terminals (Pier A), LLC; SSA Terminals, LLC; Total Terminals International, LLC; TraPac LLC; West Basin Container Terminal LLC; Yusen Terminals LLC.

Synopsis: The amendment extends the duration of the Agreement, revises the compensation provisions accordingly, and expands the truck-related data to be provided to the ports. The parties have requested expedited review. The parties have requested expedited review.

Proposed Effective Date: 09/16/2024.

Location: https://www2.fmc.gov/FMC.Agreements.Web/Public/AgreementHistory/47525.

Dated: August 6, 2024.
Alanna Beck,
Federal Register Alternate Liaison Officer.

[FR Doc. 2024-17769 Filed 8-8-24; 8:45 am]

BILLING CODE 6730-02-P